DEPARTMENT OF COMMERCE

International Trade Administration

[A-570-073, C-570-074]

Common Alloy Aluminum Sheet From the People's Republic of China: Affirmative Final Determination of Circumvention of the Antidumping and Countervailing Duty Orders; 4017 Aluminum Sheet

AGENCY: Enforcement and Compliance, International Trade Administration, Department of Commerce.

SUMMARY: The U.S. Department of Commerce (Commerce) determines that imports of aluminum sheet produced from aluminum alloy 4017 (4017 aluminum sheet) produced in the People's Republic of China (China) and exported to the United States constitutes merchandise altered in form or appearance in such minor respects that it should be included within the scope of the antidumping duty (AD) and countervailing duty (CVD) orders on common alloy aluminum sheet (CAAS) from China. As a result, 4017 aluminum sheet will be subject to suspension of liquidation effective August 26, 2022.

DATES: Applicable July 27, 2023.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Background

On April 12, 2023, Commerce published the Preliminary Determination of the circumvention inquiry of the AD and CVD orders on CAAS from China ¹ with respect to 4017 aluminum sheet, produced in China and exported to the United States.² Although we invited parties to comment on the Preliminary Determination of this inquiry, we received no comments. We notified the U.S. International Trade Commission (ITC) of our preliminary determination and did not receive a request for consultation from the ITC.³ Commerce conducted this circumvention inquiry pursuant to section 781© of the Tariff Act of 1930, as amended (the Act), and 19 CFR 351.226(j).

¹ See Common Alloy Aluminum Sheet from the People's Republic of China: Countervailing Duty Order, 84 FR 2157 (February 6, 2019); and Common Alloy Aluminum Sheet from the People's Republic of China: Antidumping Duty Order, 84 FR 2813 (February 8, 2019) (collectively, Orders).

² See Common Alloy Aluminum Sheet from the People's Republic of China: Preliminary Affirmative Determination of Circumvention, 88 FR 21998 (April 12, 2023) (Preliminary Determination), and accompanying Preliminary Decision Memorandum (PDM).

³ See Commerce's Letter, “Common Alloy Aluminum Sheet from the People's Republic of China: Preliminary Affirmative Determination of Circumvention for 4017 Aluminum Sheet of the Antidumping and Countervailing Duty Orders,” dated April 7, 2023.

Scope of the Orders

The merchandise covered by the Orders is aluminum common alloy sheet (common alloy sheet), which is a flat-rolled aluminum product having a thickness of 6.3 mm or less, but greater than 0.2 mm, in coils or cut-to-length, regardless of width. Common alloy sheet within the scope of the Orders includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the Orders if performed in the country of manufacture of the common alloy sheet.

Excluded from the scope of the Orders is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of the Orders may also be entered into the United States under HTSUS subheadings 7606.11.3030, 7606.12.3030, 7606.91.3060, 7606.91.6040, 7606.92.3060, 7606.92.6040, 7607.11.9090. Although the HTSUS subheadings are provided for convenience and customs purposes, the written description of the scope of the Orders is dispositive.

Merchandise Subject to the Circumvention Inquiry

This circumvention inquiry covers aluminum sheet produced in China from aluminum alloy 4017 and exported to the United States. A complete description of the merchandise subject to the circumvention inquiry is contained in the Preliminary Decision Memorandum.⁴

⁴ See Preliminary Determination, PDM.

Methodology

We conducted this circumvention inquiry pursuant to section 781(c) of the Act and 19 CFR 351.226(j). For a complete description of the methodology underlying the preliminary determination, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Affirmative Final Determination of Circumvention

As detailed in the Preliminary Determination,⁵ we determine, on the basis of facts available with an adverse inference, that 4017 aluminum sheet produced in China and exported to the United States constitutes merchandise altered in form or appearance in such minor respects that it should be included within the scope of the Orders, pursuant to section 781(c) of the Act and 19 CFR 351.226(j). Commerce continues to apply this affirmative circumvention finding on a country-wide basis. Because we received no comments regarding our Preliminary Determination, our final determination remains unchanged from our Preliminary Determination. Therefore, we determine that it is appropriate to include this merchandise within the scope of the Orders and to instruct U.S. Customs and Border Protection (CBP) to continue to suspend any entries of 4017 aluminum sheet produced in China and exported to the United States.

⁵ Id.

Suspension of Liquidation

In accordance with 19 CFR 351.226(l)(3), based on this final determination in this circumvention inquiry, Commerce will direct CBP to begin or continue to suspend liquidation and to require cash deposits of estimated duties equal to the AD and CVD rates in effect for CAAS from China for each unliquidated entry of 4017 aluminum sheet produced in China and exported to the United States that has been entered, or withdrawn from warehouse, for consumption on or after August 26, 2022.⁶ The suspension of liquidation and cash deposit requirements will remain in effect until further notice.

⁶ See Common Alloy Aluminum Sheet from the People's Republic of China: Initiation of Circumvention Inquiry of the Antidumping and Countervailing Duty Orders—4017 Aluminum Sheet, 87 FR 52509 (August 26, 2022).

Administrative Protective Order

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is published in accordance with section 781(c) of the Act and 19 CFR 351.226(g)(2).

Dated: July 21, 2023.
Lisa W. Wang,
Assistant Secretary for Enforcement and Compliance.

[FR Doc. 2023-15947 Filed 7-26-23; 8:45 am]

BILLING CODE 3510-DS-P